DEPARTMENT OF TRANSPORTATION

Federal Aviation Administration

14 CFR Part 39

[Docket No. 2004-NM-37-AD; Amendment 39-14180; AD 2005-14-03]

RIN 2120-AA64

Airworthiness Directives; Empresa Brasileira de Aeronautica S.A. (EMBRAER) Model EMB-145 and EMB-135 Series Airplanes

AGENCY: Federal Aviation Administration, DOT.

ACTION: Final rule.

SUMMARY: This amendment adopts a new airworthiness directive (AD), applicable to certain EMBRAER Model EMB-145 and EMB-135 series airplanes, that requires replacement of the engine-driven hydraulic pump. This action is necessary to prevent engine oil leakage at the coupling seal between the hydraulic pump and the engine gearbox from causing low engine oil levels, which could lead to in-flight engine shutdown and consequent reduced controllability of the airplane. This action is intended to address the identified unsafe condition.

DATES: Effective August 10, 2005.

The incorporation by reference of certain publications listed in the regulations is approved by the Director of the Federal Register as of August 10, 2005.

ADDRESSES: The service information referenced in this AD may be obtained from Empresa Brasileira de Aeronautica S.A. (EMBRAER), P.O. Box 343-CEP 12.225, Sao Jose dos Campos-SP, Brazil. This information may be examined at the Federal Aviation Administration (FAA), Transport Airplane Directorate, Rules Docket, 1601 Lind Avenue, SW., Renton, Washington.

FOR FURTHER INFORMATION CONTACT: Todd Thompson, Aerospace Engineer; International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to certain EMBRAER Model EMB-145 and EMB-135 series airplanes was published in the Federal Register on April 27, 2004 (69 FR 22743). That action proposed to require replacement of the engine-driven hydraulic pump.

Explanation of New Relevant Service Information

The proposed AD refers to EMBRAER Service Bulletin 145-29-0018, Revision 03, dated December 2, 2003, as the appropriate source of service information for replacing the engine-driven hydraulic pump for Model EMB-145 and EMB-135 series airplanes. Since the issuance of that service bulletin, Embraer has issued Revision 04, dated March 16, 2005. Revision 04 of the service bulletin is essentially the same as Revision 03, but it removes a certain airplane from the in-service effectivity and adds two airplanes to the in-production effectivity. We have changed paragraph (a)(1) of this AD to refer to Revision 04 of the service bulletin as the appropriate source of service information for Model EMB-145 and EMB-135 series airplanes, and revised the applicability to refer to Revision 04 for those airplanes. In addition, we have added Revision 03 of the service bulletin to paragraph (d) of this AD to give credit for previously accomplishing the actions in accordance with that revision.

Comments

Interested persons have been afforded an opportunity to participate in the making of this amendment. Due consideration has been given to the comments received from a single commenter.

Request To Clarify Statement of Unsafe Condition

The commenter, the airplane manufacturer, asks that we clarify the statement of the unsafe condition as specified in the proposed AD. The commenter suggests we add the word “engine” in front of the term “oil leakage” for clarification. We agree and have added the word “engine” to clarify the statement of the unsafe condition in the AD.

Extend Compliance Time Specified in Paragraph (c) of the Proposed AD

The commenter also asks that the compliance time of “as of the effective date of this AD” specified in paragraph (c) of the proposed AD be extended. The commenter states that it does not concur with accepting only the new part number (P/N) for installation as of the effective date of the AD. The commenter notes that this compliance time is not consistent with the period of 1,000 flight hours defined for hydraulic pump replacement, and may affect operators that may not have enough time to modify their spare parts. The commenter suggests the adoption of a period similar to the Brazilian airworthiness directive referenced in the proposed AD, which provides a compliance time of approximately two months for stock upgrade. The commenter proposes the following compliance time: “No later than 31 March 2004, modify all hydraulic pumps P/N 971808 held in stock, to the new P/N 971808 MOD A—Brazilian airworthiness directive date: 29 January 2004.”

We do not agree. We have determined that the compliance time specified in the AD will ensure an acceptable level of safety and allow the replacement to be done with no airplane out-of-service time during scheduled maintenance intervals for most affected operators. In developing the technical information on which every AD is based, we consider the availability of spare parts that the AD will require to be installed. We have not changed the AD in this regard.

Explanation of Change to Final Rule

In Table 1 of the proposed AD we referenced an incorrect number for EMBRAER Service Bulletin 145LEG-29-0001. We inadvertently referenced 145LEG-31-0001 instead of 145LEG-29-0001. We have corrected the error in this final rule.

Conclusion

After careful review of the available data, including the comments noted above, we have determined that air safety and the public interest require the adoption of the rule with the changes described previously. These changes will neither increase the economic burden on any operator nor increase the scope of the AD.

Cost Impact

The FAA estimates that 548 airplanes of U.S. registry will be affected by this AD, that it will take approximately 4 work hours per airplane to accomplish the actions, and that the average labor rate is $65 per work hour. The manufacturer will provide replacement parts at no cost. Based on these figures, the cost impact of the AD on U.S. operators is estimated to be $142,480, or $260 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2005-14 Empresa Brasileira De Aeronautica S.A. (Embraer): Amendment 39-14180. Docket 2004-NM-37-AD.

Applicability: Model EMB-145 and EMB-135 series airplanes, certificated in any category, as listed in EMBRAER Service Bulletin 145-29-0018, Revision 04, dated March 16, 2005; and EMBRAER Service Bulletin 145LEG-29-0001, Revision 01, dated November 11, 2003.

Compliance: Required as indicated, unless accomplished previously.

To prevent engine oil leakage at the coupling seal between the hydraulic pump and the engine gearbox from causing low engine oil levels, which could lead to in-flight engine shutdown and consequent reduced controllability of the airplane, accomplish the following:

Service Bulletin References

(a) The term “service bulletin,” as used in this AD, means the Accomplishment Instructions of the following service bulletins, as applicable:

(1) For Model EMB-145 and EMB-135 (except Model EMB-135BJ) series airplanes: EMBRAER Service Bulletin 145-29-0018, Revision 04, dated March 16, 2005; and

(2) For Model EMB-135BJ series airplanes: EMBRAER Service Bulletin 145LEG-29-0001, Revision 01, dated November 11, 2003.

Note 1: EATON Service Bulletin 971808-29-02, dated May 1, 2001, has been incorporated into the EMBRAER service bulletins as an additional source of service information for accomplishing the modification of the hydraulic pump.

Replacement of Hydraulic Pump

(b) Within 1,000 flight hours after the effective date of this AD, replace the engine-driven hydraulic pump, part number (P/N) 971808, with a new or modified pump, P/N 971808 MOD A, in accordance with the Accomplishment Instructions of the applicable service bulletin.

Parts Installation

(c) As of the effective date of this AD, no person may install a hydraulic pump having P/N 971808 on any airplane, unless that pump has been modified and reidentified as P/N 971808 MOD A, per Part II of the Accomplishment Instructions of the applicable service bulletin.

Actions Accomplished Per Previous Issues of Service Bulletins

(d) Actions accomplished before the effective date of this AD, in accordance with the applicable service bulletin listed in Table 1 of this AD, are considered acceptable for compliance with the corresponding actions specified in this AD.

Table 1.—Previous issues of Service Bulletins
EMBRAER service bulletin | Revision and date
145-29-0018 | Original Issue, June 6, 2002.
145-29-0018 | Revision 01, October 9, 2002.
145-29-0018 | Revision 02, August 25, 2003.
145-29-0018 | Revision 03, December 2, 2003.
145LEG-29-0001 | Original Issue, October 9, 2002.

Alternative Methods of Compliance

(e) In accordance with 14 CFR 39.19, the Manager, International Branch, ANM-116, FAA, Transport Airplane Directorate, is authorized to approve alternative methods of compliance for this AD.

Incorporation by Reference

(f) Unless otherwise specified in this AD, the actions must be done in accordance with EMBRAER Service Bulletin 145-29-0018, Revision 04, dated March 16, 2005; and EMBRAER Service Bulletin 145LEG-29-0001, Revision 01, dated November 11, 2003; as applicable. EMBRAER Service Bulletin 145-29-0018, Revision 04, dated March 16, 2005, contains the following list of effective pages:

Page No. | Revision level shown on page | Date shown on page
1-3 | 04 | March 16, 2005.
4-14 | 03 | December 2, 2003.

This incorporation by reference was approved by the Director of the Federal Register in accordance with 5 U.S.C. 552(a) and 1 CFR part 51. To get copies of this service information, contact Empresa Brasileira de Aeronautica S.A. (EMBRAER), PO Box 343-CEP 12.225, Sao Jose dos Campos-SP, Brazil. To inspect copies of this service information, go to the FAA, Transport Airplane Directorate, 1601 Lind Avenue, SW., Renton, Washington; or to the National Archives and Records Administration (NARA). For information on the availability of this material at the NARA, call (202) 741-6030, or go to http://www.archives.gov/federal_register/code_of_federal_regulations/ibr_locations.html.

Note 2: The subject of this AD is addressed in Brazilian airworthiness directive 2004-01-03, effective January 29, 2004.

Effective Date

(g) This amendment becomes effective on August 10, 2005.

Issued in Renton, Washington, on June 24, 2005.
Michael J. Kaszycki,
Acting Manager, Transport Airplane Directorate, Aircraft Certification Service.

[FR Doc. 05-13142 Filed 7-5-05; 8:45 am]

BILLING CODE 4910-13-P